DEPARTMENT OF ENERGY

Federal Energy Regulatory Commission

Notice of Intent To File License Application, Filing of Pre-Application Document, and Approval of Use of the Traditional Licensing Process

March 23, 2007.

a. Type of Filing: Notice of Intent to File License Application and Request to Use the Traditional Licensing Process.

b. Project No.: 12771-000.

c. Dated Filed: February 5, 2007.

d. Submitted By: Great Bear Hydropower, Inc.

e. Name of Project: Upper Falls Hydroelectric Project.

f. Location: The project would be located at the existing Riverside and Kendrick-Davis Dams on the Mascoma River in Grafton County, New Hampshire. The project would not occupy United States lands.

g. Filed Pursuant to: 18 CFR 5.3 of the Commission's regulations.

h. Applicant Contact: Mr. Terry McDonnell, President, Great Bear Hydropower, Inc., 15 Brigham Hill Road, Norwich, VT 05055, (802) 649-9099.

i. FERC Contact: John Ramer, (202) 502-8969 or john.ramer@ferc.gov.

j. Great Bear Hydropower, Inc. filed its request to use the Traditional Licensing Process on February 5, 2007. Great Bear Hydropower, Inc. filed public notice of its request on February 20, 2007. In a letter dated March 16, 2007, the Director of the Office of Energy Projects approved Great Bear Hydropower, Inc.'s request to use the Traditional Licensing Process.

k. With this notice, we are initiating informal consultation with: (a) The U.S. Fish and Wildlife Service under section 7 of the Endangered Species Act; and (b) the New Hampshire State Historic Preservation Officer, as required by section 106, National Historical Preservation Act, and the implementing regulations of the Advisory Council on Historic Preservation at 36 CFR 800.2.

l. Great Bear Hydropower, Inc. filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

Register online at http://ferc.gov/docs-filing/esubscription.asp to be notified via e-mail of new filing and issuances related to this or other pending projects. For assistance, contact FERC Online Support.

Philis Posey,
Acting Secretary.

[FR Doc. E7-5767 Filed 3-28-07; 8:45 am]

BILLING CODE 6717-01-P